ENVIRONMENTAL PROTECTION AGENCY

[EPA-HQ-OPPT-2005-0458; FRL-8203-5]

Agency Information Collection Activities; Submission to OMB for Review and Approval; Comment Request; Reporting and Recordkeeping Requirements Under EPA's Hospitals for a Healthy Environment (H2E) Program; EPA ICR No. 2088.02, OMB No. 2070-0166

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on July 31, 2006. Under OMB regulations, the Agency may continue to conduct or sponsor the collection of information while this submission is pending at OMB. This ICR describes the nature of the information collection and its estimated burden and cost.

DATES: Additional comments may be submitted on or before August 25, 2006.

ADDRESSES: Submit your comments, referencing docket ID number EPA-HQ-OPPT-2005-0458, to (1) EPA online using http://www.regulations.gov (our preferred method), by e-mail to oppt.ncic@epa.gov, or by mail to: EPA Docket Center, Environmental Protection Agency, Docket Control Office (DCO), Office of Pollution Prevention and Toxics (OPPT), Mailcode: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Acting Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On January 31, 2006 (71 FR 5055), EPA sought comments on this renewal ICR. EPA sought comments on this ICR pursuant to 5 CFR 1320.8(d). EPA received two comments during the comment period. Any comments related to this ICR should be submitted to EPA and OMB within 30 days of this notice.

EPA has established a public docket for this ICR under Docket ID No. EPA-HQ-OPPT-2005-0458, which is available for online viewing at http://www.regulations.gov, or in person inspection at the OPPT Docket in the EPA Docket Center (EPA/DC), EPA West, Room B102, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280. Use http://www.regulations.gov to submit or view public comments, access the index listing of the contents of the public docket, and to access those documents in the public docket that are available electronically. Once in the system, select “search,” then key in the docket ID number identified above.

EPA's policy is that public comments, whether submitted electronically or in paper, will be made available for public viewing in http://www.regulations.gov as EPA receives them and without change, unless the comment contains copyrighted material, CBI, or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, go to http://www.regulations.gov.

Title: Reporting and Recordkeeping Requirements under EPA's Hospitals for a Healthy Environment (H2E) Program.

ICR Numbers: EPA ICR Number 2088.02, OMB Control Number 2070-0166.

ICR Status: This is a request to renew an existing approved collection. This ICR is scheduled to expire on July 31, 2006. Under OMB regulations, the Agency may continue to conduct or sponsor the collection of information while this submission is pending at OMB.

Abstract: The Hospitals for a Healthy Environment (H2E) program is a voluntary partnership program jointly administered by the Environmental Protection Agency, the American Hospital Association, the American Nurses Association, and Health Care Without Harm that helps hospitals enhance work place safety, reduce waste and waste disposal costs, and become better environmental stewards and neighbors. The program is based on a 1998 Memorandum of Understanding signed by AHA and EPA to provide health care professionals with the tools and information necessary to reduce mercury waste, reduce the overall volume of waste, and identify pollution prevention opportunities.

The H2E program has two elements, the Partners for Change program and the Champions for Change program. The Partners for Change program recognizes health care facilities that pledge support to the H2E mission and develop goals for reducing waste and mercury in their own facilities. The Champions for Change program recognizes organizations that encourage and aid health care facilities to participate as H2E Partners, provide on-going promotional or technical assistance information, or make changes that support the goals of the H2E program in their own institutions. An organization's decision to participate in the H2E program is completely voluntary. This information collection addresses reporting and recordkeeping activities that support the administration of the H2E program.

Responses to the collection of information are voluntary. Respondents may claim all or part of a notice as CBI. EPA will disclose information that is covered by a CBI claim only to the extent permitted by, and in accordance with, the procedures in 40 CFR part 2.

An agency may not conduct or sponsor, and a person is not required to respond to, a collection of information unless it displays a currently valid OMB control number. The OMB control numbers for EPA's regulations in title 40 of the CFR, after appearing in the Federal Register, are listed in 40 CFR part 9 and included on the related collection instrument or form, if applicable.

Burden Statement: The annual public reporting and recordkeeping burden for this collection of information is estimated to range between 0.5 and 20 hours per response, depending upon the type of information the respondent provides. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Establishments or organizations engaged in furnishing medical, surgical or other health services to individuals.

Frequency of Collection: Annual.

Estimated average number of responses for each respondent: 3.2.

Estimated Number of Respondents: 1,582.

Estimated Total Annual Burden on Respondents: 5,551 hours.

Estimated Total Annual Costs: $188,723.

Changes in Burden Estimates: There is a decrease of 4,559 hours (from 10,110 hours to 5,551 hours) in the total estimated respondent burden compared with that identified in the information collection most recently approved by OMB. This decrease reflects actual program experience in conducting the H2E program over the past three years. The number of new Partner facilities recruited per year has been revised downward to reflect average recruit numbers. Similarly, the number of award applicants has also been revised downward to reflect the number of award applications received per year. This decrease is an adjustment.

Dated: July 11, 2006.
Sara Hisel McCoy,
Acting Director, Collection Strategies Division.

[FR Doc. E6-11943 Filed 7-25-06; 8:45 am]

BILLING CODE 6560-50-P